DEPARTMENT OF HOMELAND SECURITY

Coast Guard

[CGD13-06-028]

Letter of Recommendation, Proposed LNG Project, Jordan Cove Energy Project, LP, Coos County, OR

AGENCY: Coast Guard, DHS.

ACTION: Request for comments; notice of public meeting.

SUMMARY: The U.S. Coast Guard Captain of the Port (COTP) Portland, Oregon is preparing a Letter of Recommendation (LOR) as to the suitability of Coos Bay for liquefied natural gas (LNG) marine traffic. This LOR will encompass the marine safety and security aspects associated with the proposed Jordan Cove Energy Project, L.P. (Jordan Cove) LNG facility. The COTP Portland, OR is soliciting written comments and related material, and will join FERC in holding a public meeting seeking comments, pertaining specifically to maritime safety and security aspects of the proposed LNG facility. This process will assess the safety and security aspects of the facility, adjacent port areas, and navigable waterways.

DATES: All written comments and related material must reach the Coast Guard on or before July 21, 2006. In addition, a public meeting will be held Tuesday, July 11, 2006, at 7 p.m. The comment period associated with the public meeting will remain open for ten days following the meeting. The meeting location is: Southwestern Oregon Community College, Hales Performing Arts Center, 1988 Newmark Ave., Coos Bay, OR 97420. 541-888-2525.

ADDRESSES: You may submit written comments to Commanding Officer, U.S. Coast Guard Sector Portland, 6767 N. Basin Ave., Portland, OR 97217. Sector Portland maintains a file for this notice. Comments and material received will become part of this file and will be available for inspection and copying at Sector Portland between 8 a.m. and 3 p.m. Monday through Friday, except Federal holidays.

FOR FURTHER INFORMATION CONTACT: If you have questions on this notice, contact Lieutenant Shadrack Scheirman at Sector Portland by one of the methods listed below:

(1) Phone at (503) 240-9307

(2) E-mail at Shadrack.L.Scheirman@uscg.mil

(3) Fax to (503) 240-2586

SUPPLEMENTARY INFORMATION:

Request for Written Comments

We encourage you to submit written comments and related material pertaining specifically to marine safety and security aspects associated with the proposed Jordan Cove LNG facility. If you do so, please include your name and address, identify the docket number for this notice ([CGD13-06-028]), and give the reason for each comment. You may submit your comments and related material by mail, or hand delivery, as described in ADDRESSES, or you may send them by fax or e-mail using the contact information under FOR FURTHER INFORMATION CONTACT. To avoid confusion and duplication, please submit your comments and material by only one means.

If you submit comments by mail or hand delivery, submit them in an unbound format, no larger than 8½ by 11 inches, suitable for copying and electronic filing. If you submit them by mail and would like to know that they reached U.S. Coast Guard Sector Portland, please enclose a stamped, self-addressed postcard or envelope.

Public Meeting

Due to the scope and complexity of this project, we have decided to hold a joint public meeting with FERC to allow the public the opportunity to comment on the proposed LNG facility. FERC will issue a separate notice for the public meeting listed under DATES above, regarding the public's opportunity to comment on the environmental aspects of the facility siting.

Organizations and members of the public may provide oral statements regarding the suitability of Coos Bay for LNG vessel traffic. In the interest of time and use of the public meeting facility, oral statements should be limited to five minutes. Written comments may be submitted at the meeting or to the Docket up to July 21, 2006.

Background and Purpose

In accordance with the requirements of 33 CFR 127.007, Jordan Cove submitted a Letter of Intent (LOI) on April 10, 2006, to operate an LNG facility on the North Spit of Coos Bay, Coos County, Oregon. The Letter of Recommendation (LOR) is in response to this LOI submitted by Jordan Cove. In preparation for issuance of an LOR and the completion of certain other regulatory mandates, the COTP Portland, OR will consider comments received from the public as input into a formalized risk assessment process.

Because the proposed LNG facility would be located in State waters, the Federal Energy Regulatory Commission (FERC) is the lead Federal agency for this proposed project and will prepare the Environmental Impact Statement (EIS) mandated by the National Environmental Policy Act (NEPA). To help FERC make sure that the EIS covers the Coast Guard's LOR and other actions under this proposal, the Coast Guard will serve as a cooperating agency.

The proposed terminal is an LNG import, storage, re-gasification and power generation facility. LNG carriers (ships) would berth at a new pier and LNG would be transferred by pipeline from the carriers to one of two storage tanks, each with a net capacity of 160,000 cubic meters (m³). The LNG would then be re-gasified and metered into natural gas pipelines. LNG would be delivered to the terminal in double-hulled LNG carriers ranging in capacity from 89,000 m³ to 160,000 m³. The larger carriers would measure up to approximately 935 feet long with up to approximately a 148 foot wide beam, and draw approximately 39 feet of water. The Jordan Cove Gas terminal would handle approximately 80 vessels per year, depending upon natural gas demand, and carrier size, with shipments arriving about every five days.

The U.S. Coast Guard exercises regulatory authority over LNG facilities which affect the safety and security of port areas and navigable waterways under Executive Order 10173, the Magnuson Act (50 U.S.C. 191), the Ports and Waterways Safety Act of 1972, as amended (33 U.S.C. 1221, et seq.) and the Maritime Transportation Security Act of 2002 (46 U.S.C. 701). The Coast Guard is responsible for matters related to navigation safety, vessel engineering and safety standards, and all matters pertaining to the safety of facilities or equipment located in or adjacent to navigable waters up to the last valve immediately before the receiving tanks. The Coast Guard also has authority for LNG facility security plan review, approval, and compliance verification as provided in title 33 CFR Part 105, and recommendation for siting as it pertains to the management of vessel traffic in and around the LNG facility.

Upon receipt of an LOI from an owner or operator intending to build a new LNG facility, the Coast Guard COTP conducts an analysis that results in a letter of recommendation issued to the owner or operator and to the State and local governments having jurisdiction, addressing the suitability of the waterway to accommodate LNG vessels. Specifically, the letter of recommendation addresses the suitability of the waterway based on:

• The physical location and layout of the facility and its berthing and mooring arrangements.

• The LNG vessels' characteristics and the frequency of LNG shipments to the facility.

• Commercial, industrial, environmentally sensitive, and residential areas in and adjacent to the waterway used by the LNG vessels en route to the facility.

• Density and character of marine traffic on the waterway.

• Bridges or other manmade obstructions in the waterway.

• Depth of water.

• Tidal range.

• Natural hazards, including rocks and sandbars.

• Underwater pipelines and cables.

• Distance of berthed LNG vessels from the channel, and the width of the channel.

In addition, the Coast Guard will review and approve the facility's operations manual and emergency response plan (33 CFR 127.019), as well as the facility's security plan (33 CFR 105.410).

The Coast Guard will also provide input to other Federal, State, and local government agencies reviewing the project. Under an interagency agreement, the Coast Guard will provide input to, and coordinate with FERC, the lead Federal agency for authorizing the siting and construction of onshore LNG facilities, on safety and security aspects of the Jordan Cove project, including both the marine and land-based aspects of the project.

In order to complete a thorough analysis and fulfill the regulatory mandates cited above, the COTP Portland, OR will be conducting a formal risk assessment, evaluating various safety and security aspects associated with Jordan Cove's proposed project. This risk assessment will be accomplished through a series of workshops focusing on the areas of waterways safety, port security, and consequence management, with involvement from a broad cross-section of government and port stakeholders with expertise in each of the respective areas. The workshops will be by invitation only. However, comments received during the public comment period will be considered as input into the risk assessment process.

Additional Information

Additional information about the project is available from the FERC's Office of External Affairs at 1-866-208 FERC (3372) or on the FERC Internet Web site (http://www.ferc.gov). Using the “eLibrary” link, select “General Search” from the eLibrary menu, enter the selected date range and the FERC's Docket Number PF06-25, and follow the instructions. Searches may also be done using the phrases “Jordan Cove” or “Coos Bay LNG” in the “Text Search” field. For assistance with access to eLibrary, the helpline can be reached at 1-866-208-3676, TTY (202) 502-8659, or at FERCOnlineSupport@ferc.gov. The eLibrary link on the FERC Internet website also provides access to the texts of formal documents issued by the Commission, such as orders, notices, and rulemakings.

Jordan Cove has also established an Internet Web site for its project at http://www.jordancoveenergy.com. The Web site includes a project overview, contact information, regulatory overview, and construction procedures.

For information on facilities or services for individuals with disabilities, or to request assistance at the meeting, contact Lieutenant Shadrack Scheirman listed under FOR FURTHER INFORMATION CONTACT as soon as possible.

Dated: June 10, 2006.
Patrick G. Gerrity,
Captain, U.S. Coast Guard, Captain of the Port.

[FR Doc. E6-10065 Filed 6-26-06; 8:45 am]

BILLING CODE 4910-15-P